DEPARTMENT OF ENERGY

Federal Energy Regulatory Commission

Notice of Filings

February 23, 2006.

Take notice that the Commission received the following electric rate filings:

Docket Numbers: ER01-1121-002; EL05-111-000.

Applicants: SF Phosphates Limited Company, LLC.

Description: SF Phosphates Limited Co submits Attachment I—Revised Pivotal Supplier Screen Analysis in response to the deficiency letter dated 1/12/06.

Filed Date: 02/14/2006.

Accession Number: 20060216-0029.

Comment Date: 5 p.m. Eastern Time on Tuesday, March 7, 2006.

Docket Numbers: ER05-316-002.

Applicants: FPL Energy Marcus Hook, L.P.

Description: Compliance Electric Refund Report of FPL Energy Marcus Hook, L.P.

Filed Date: 02/14/2006.

Accession Number: 20060214-5049.

Comment Date: 5 p.m. Eastern Time on Tuesday, March 7, 2006.

Docket Numbers: ER06-191-001.

Applicants: ISO New England Inc.

Description: ISO New England, Inc et al. submit proposed amendments to supplement the amendments to the ISO OATT initially filed on 11/10/05.

Filed Date: 02/15/2006.

Accession Number: 20060221-0014.

Comment Date: 5 p.m. Eastern Time on Wednesday, March 8, 2006.

Docket Numbers: ER06-193-001.

Applicants: ISO New England Inc.

Description: ISO New England, Inc et al. submit proposed amendments to supplement the improvements to Schedule 22 of the ISO OATT initially filed 11/10/05.

Filed Date: 02/15/2006.

Accession Number: 20060221-0011.

Comment Date: 5 p.m. Eastern Time on Wednesday, March 8, 2006.

Docket Numbers: ER06-233-001.

Applicants: Mountainview Power Company, LLC.

Description: Mountainview Power Co, LLC submits revised rate schedule sheets to the Power Purchase Agreement with a 12/10/05 effective date.

Filed Date: 02/15/2006.

Accession Number: 20060221-0007.

Comment Date: 5 p.m. Eastern Time on Wednesday, March 8, 2006.

Docket Numbers: ER06-495-001.

Applicants: Duke Energy Corporation.

Description: Duke Energy Corp on behalf of Duke Electric Transmission submits substitute original Sheet 329-D et al. to FERC Electric Tariff, Third Revised Volume No. 4.

Filed Date: 02/15/2006.

Accession Number: 20060217-0085.

Comment Date: 5 p.m. Eastern Time on Wednesday, March 8, 2006.

Docket Numbers: ER06-578-001.

Applicants: Southwest Power Pool, Inc.

Description: Southwest Power Pool, Inc submits as Exhibit I a corrected designation for the Service Agreement.

Filed Date: 02/15/2006.

Accession Number: 20060221-0015.

Comment Date: 5 p.m. Eastern Time on Wednesday, March 8, 2006.

Docket Numbers: ER06-589-001.

Applicants: American Electric Power Service Corporation.

Description: American Electric Power Service Corp as agent for AEP Operating Companies submits and requests acceptance of a correction to the Interconnection & Local Delivery Agreement with Village of Sycamore, OH.

Filed Date: 02/15/2006.

Accession Number: 20060221-0010.

Comment Date: 5 p.m. Eastern Time on Wednesday, March 8, 2006.

Docket Numbers: ER06-637-000.

Applicants: Wisconsin Electric Power Company.

Description: Wisconsin Electric Power Company submits a proposed amendment to the Power Sales Agreement with Alger Delta Cooperative Electric Assoc.

Filed Date: 02/14/2006.

Accession Number: 20060217-0092.

Comment Date: 5 p.m. Eastern Time on Tuesday, March 7, 2006.

Docket Numbers: ER06-638-000.

Applicants: Wisconsin Electric Power Company.

Description: Wisconsin Electric Power Co submits a proposed amendment to the Power Sales Agreement with the City of Crystal Falls, Michigan.

Filed Date: 02/14/2006.

Accession Number: 20060217-0091.

Comment Date: 5 p.m. Eastern Time on Tuesday, March 7, 2006.

Docket Numbers: ER06-639-000.

Applicants: Wisconsin Electric Power Company.

Description: Wisconsin Electric Power Co submits a proposed amendment to the Power Service Agreement w/ Ontonagon County Electrification Assoc.

Filed Date: 02/14/2006.

Accession Number: 20060217-0090.

Comment Date: 5 p.m. Eastern Time on Tuesday, March 7, 2006.

Docket Numbers: ER06-640-000.

Applicants: Wisconsin Electric Power Company.

Description: Wisconsin Electric Power Co and Madison Gas and Electric Co submit the proposed Balancing Area Operations Coordination Agreement.

Filed Date: 02/15/2006.

Accession Number: 20060217-0094.

Comment Date: 5 p.m. Eastern Time on Wednesday, March 8, 2006.

Docket Numbers: ER06-641-000.

Applicants: Southwest Power Pool, Inc.

Description: Southwest Power Pool, Inc submits revised OATT, Attachment AJ of its tariff.

Filed Date: 02/15/2006.

Accession Number: 20060217-0088.

Comment Date: 5 p.m. Eastern Time on Wednesday, March 8, 2006.

Docket Numbers: ER06-642-000.

Applicants: Brookfield Power Piney & Deep Creek LLC.

Description: Brookfield Power Piney & Deep Creek LLC submit a notice of succession as a result of a corporate name change and amendments to the MBR Tariff as a result of this name change.

Filed Date: 02/15/2006.

Accession Number: 20060217-0087.

Comment Date: 5 p.m. Eastern Time on Wednesday, March 8, 2006.

Docket Numbers: ER06-643-000.

Applicants: Brookfield Energy Marketing Inc.

Description: Brookfield Energy Marketing Inc submits a notice of succession as a result of a corporate name change, and amendments to the MBR tariff as a result of the name change.

Filed Date: 02/15/2006.

Accession Number: 20060217-0086.

Comment Date: 5 p.m. Eastern Time on Wednesday, March 8, 2006.

Docket Numbers: ER06-644-000.

Applicants: ISO New England Inc.

Description: ISO New England, Inc submits its Capital Projects Reports and schedule of the unamortized cost of the ISO's funded capital expenditures quarter ending 12/31/05.

Filed Date: 02/15/2006.

Accession Number: 20060221-0018.

Comment Date: 5 p.m. Eastern Time on Wednesday, March 8, 2006.

Docket Numbers: ER06-645-000.

Applicants: Avista Corporation.

Description: Avista Corp submits notice of termination of the Power Transfer Agreement between The Washington Water Power Co and the City of Tacoma for the Summer Falls and Main Canal Power Project.

Filed Date: 02/15/2006.

Accession Number: 20060221-0019.

Comment Date: 5 p.m. Eastern Time on Wednesday, March 8, 2006.

Docket Numbers: ER06-646-000.

Applicants: New England Power Pool Inc.

Description: ISO New England, Inc & New England Power Pool Participants Committee submits revisions to Market Rule 1 pursuant to section 205 of the FPA.

Filed Date: 02/15/2006.

Accession Number: 20060221-0020.

Comment Date: 5 p.m. Eastern Time on Wednesday, March 8, 2006.

Docket Numbers: ER98-411-013.

Applicants: Wolverine Power Supply Cooperative, Inc.

Description: Wolverine Power Supply Cooperative, Inc amends its initial 1/31/06 filing of Notification of Change in Status Potentially Affecting Market-Based Sales Authority.

Filed Date: 02/15/2006.

Accession Number: 20060217-0072.

Comment Date: 5 p.m. Eastern Time on Wednesday, March 1, 2006.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-2862 Filed 2-28-06; 8:45 am]

BILLING CODE 6717-01-P